DEPARTMENT OF STATE

[Public Notice 9878]

Notice of Public Meeting

The Department of State will conduct an open meeting at 9:30 a.m. on Wednesday, March 1, 2017, at the headquarters of the Radio Technical Commission for Maritime Services (RTCM) in Suite 605, 1611 N. Kent Street, Arlington, Virginia 22209. The primary purpose of the meeting is to prepare for the 4th Session of the International Maritime Organization's (IMO) Sub-Committee on Navigation, Communication, and Search and Rescue to be held at the IMO Headquarters, United Kingdom, from March 6-10, 2017.

The agenda items to be considered include:

—Decisions of other IMO bodies

—Routeing measures and mandatory ship reporting systems

—Updates to the LRIT system

—Interconnection of NAVTEX and Inmarsat SafetyNET receivers and their display on Integrated Navigation Display Systems

—Guidelines associated with multi-system shipborne radionavigation receivers dealing with the harmonized provision of PNT data and integrity information

—Additional modules to the Revised Performance Standards for Integrated Navigation Systems (INS) (resolution MSC.252(83) relating to the harmonization of bridge design and display of information

—Guidelines for the harmonized display of navigation information received via communications equipment

—Revised Guidelines and criteria for ship reporting systems (resolution MSC.43(64))

—Performance Standards for shipborne GMDSS equipment to accommodate additional providers of GMDSS satellite services

—Updating of the GMDSS master plan and guidelines on MSI (maritime safety information) provisions

—Draft Modernization Plan of the Global Maritime Distress and Safety System (GMDSS)

—Analysis of developments in maritime radiocommunication systems and technology

—Review SOLAS chapter IV and appendix (Certificates: Forms P, R and C) to accommodate additional mobile satellite systems *

—Response to matters related to the Radiocommunication ITU R Study Group

—Response to matters related to ITU World Radiocommunication Conference

—Measures to protect the safety of persons rescued at sea

—Developments in GMDSS satellite services

—Revised Performance Standards for EPIRBs operating on 406 MHz (resolution A.810(19)) to include Cospas-Sarsat MEOSAR and second generation beacons

—Further development of the provision of global maritime SAR services

—Guidelines on harmonized aeronautical and maritime search and rescue procedures, including SAR training matters

—Amendments to the IAMSAR Manual

—Revised guidelines for preparing plans for cooperation between search and rescue services and passenger ships (MSC/Circ.1079)

—Unified interpretation of provisions of IMO safety, security, and environment related Conventions

—Biennial status report and provisional agenda for NCSR 5

—Election of Chairman and Vice-Chairman for 2018

—Report to the Marine Safety Committee

Members of the public may attend this meeting up to the seating capacity of the room. To facilitate the building security process, and to request reasonable accommodation, those who plan to attend should contact the meeting coordinator, George Detweiler, by email at George.H.Detweiler@uscg.mil, by phone at (202) 372-1566, or in writing at 2703 Martin Luther King Jr. Ave. SE., Stop 7418, Washington DC 20593-7418 not later than February 22nd, 2017. Requests made after February 22nd, 2017, might not be able to be accommodated. RTCM Headquarters is adjacent to the Rosslyn Metro Station and is accessible by taxi and privately owned conveyance. For further directions and lodging information, please see: http://www.rtcm.org/visit-us.html. In the case of inclement weather where the Federal Government is closed or delayed, a public meeting may be conducted virtually by calling (202) 475-4000 or 1 (855) 475-2447, Participant code: 887 809 72. The meeting coordinator will confirm whether the virtual public meeting will be utilized at: www.uscg.mil/imo. Members of the public can find out whether the Federal Government is delayed or closed by visiting www.opm.gov/status/. Additional information regarding this and other IMO public meetings may be found at: www.uscg.mil/imo.

Jonathan W. Burby,
Coast Guard Liaison Officer, Office of Ocean and Polar Affairs, Department of State.

[FR Doc. 2017-02602 Filed 2-8-17; 8:45 am]

BILLING CODE 4710-09-P